INTERNATIONAL TRADE COMMISSION

[Investigation No. AA1921-167 (Fourth Review)]

Pressure Sensitive Plastic Tape From Italy, Determination

On the basis of the record ¹ developed in the subject five-year review, the United States International Trade Commission (“Commission”) determines, pursuant to the Tariff Act of 1930, that revocation of the antidumping duty finding on pressure sensitive plastic tape from Italy would be likely to lead to continuation or recurrence of material injury to an industry in the United States within a reasonably foreseeable time.²

¹ The record is defined in sec. 207.2(f) of the Commission's Rules of Practice and Procedure (19 CFR 207.2(f)).

² Chairman Broadbent and Commissioner Kieff dissenting.

Background

The Commission, pursuant to section 751(c) of the Tariff Act of 1930 (19 U.S.C. 1675(c)), instituted this review on March 2, 2015 (80 FR 11224) and determined on June 5, 2015 that it would conduct a full review (80 FR 34458, June 16, 2015). Notice of the scheduling of the Commission's review and of a public hearing to be held in connection therewith was given by posting copies of the notice in the Office of the Secretary, U.S. International Trade Commission, Washington, DC, and by publishing the notice in the Federal Register on September 28, 2015 (80 FR 58295). The hearing was held in Washington, DC, on February 2, 2016, and all persons who requested the opportunity were permitted to appear in person or by counsel.

The Commission made this determination pursuant to section 751(c) of the Tariff Act of 1930 (19 U.S.C. 1675(c)). It completed and filed its determination in this review on April 4, 2016. The views of the Commission are contained in USITC Publication 4602 (April 2016), entitled Pressure Sensitive Plastic Tape from Italy: Investigation No. AA1921-167 (Fourth Review).

By order of the Commission.
Issued: April 4, 2016.
Lisa R. Barton,
Secretary to the Commission.

[FR Doc. 2016-08027 Filed 4-7-16; 8:45 am]

BILLING CODE 7020-02-P